SMALL BUSINESS ADMINISTRATION

Meeting of the Interagency Task Force on Veterans Small Business Development

AGENCY: U.S. Small Business Administration (SBA).

ACTION: Notice of open Federal Advisory Committee meeting.

SUMMARY: The SBA is issuing this notice to announce the date, time, and agenda for the next meeting of the Interagency Task Force on Veterans Small Business Development (IATF).

DATES: Tuesday, July 15, 2025, from 1:00 p.m. to 3:00 p.m. ET.

ADDRESSES: The public meeting will be held virtually via Microsoft Teams.

FOR FURTHER INFORMATION CONTACT: The virtual meeting is open to the public; however advance notice of attendance is strongly encouraged. To RSVP and confirm attendance, the general public should email veteransbusiness@sba.gov with subject line, “RSVP for July 15, 2025 IATF Virtual Public Meeting.” To submit a written comment, individuals should email veteransbusiness@sba.gov with subject line, “Response for July 15, 2025, IATF Virtual Public Meeting” no later than Tuesday, July 8, 2025, or contact Timothy Green, Deputy Associate Administrator, Office of Veterans Business Development (OVBD) at (202) 205-6773. Comments received in advanced will be addressed as time allows during the public comment period. All other submitted comments will be included in the meeting record. During the live meeting, those who wish to comment will be able to do so during the public comment period. Participants can join the meeting via computer at this link: https://bit.ly/IATF-JUL25 or by phone. Call in (audio only): Dial: +1 206-413-7980: Phone Conference ID: 278 883 801#. Special accommodation requests should be directed to OVBD at (202) 205-6773 or veteransbusiness@sba.gov. All applicable documents will be posted on the IATF website prior to the meeting: https://www.sba.gov/about-sba/sba-locations/headquarters-offices/office-veterans-business-development#sba-card-collection--heading-7153. For more information on veteran-owned small business programs, please visit www.sba.gov/ovbd.

SUPPLEMENTARY INFORMATION: Pursuant to section 10(a)(2) of the Federal Advisory Committee Act (5 U.S.C., Appendix 2), SBA announces the meeting of the Interagency Task Force on Veterans Small Business Development (IAFT). The IATF is established pursuant to Executive Order 13540 to coordinate the efforts of Federal agencies to improve capital, business development opportunities, and pre-established federal contracting goals for small business concerns owned and controlled by veterans and service-disabled veterans. The purpose of this meeting is to discuss efforts that support veteran-owned small businesses, briefings on SBA's Made-In-America Manufacturing Initiative, Make Onshoring Great Again portal, the Red-Tape Hotline, and the IATF's objectives for fiscal year 2025.

Dated: June 24, 2025.
Andrienne Johnson,
Committee Manager Officer.

[FR Doc. 2025-11823 Filed 6-25-25; 8:45 am]

BILLING CODE 8026-09-P